GENERAL SERVICES ADMINISTRATION

[Notice BSC-RPM-2022-02; Docket No. BSC-RPM-2022-0004; Sequence 1]

Business Standards Council Review of Real Property Management Federal Integrated Business Framework Draft Business Data Elements: Request for Public Comment

AGENCY: Office of Government-wide Policy; General Services Administration, (GSA).

ACTION: Request for public comment.

SUMMARY: This notice informs the public of the opportunity to provide input on the proposed real property management business data elements that have been created in support of Federal shared services. This input will be used in the formulation of business standards for Federal real property management.

DATES: Comments due: Interested parties should submit comments by the method outlined in the ADDRESSES section immediately below on or before January 23, 2023.

ADDRESSES: Submit comments in response to Notice BSC-RPM-2022-02 by Regulations.gov: http://www.regulations.gov. Submit comments using the Federal eRulemaking portal by searching for “Notice BSC-RPM-2022-02.” Select the link “Comment Now” that corresponds with “Notice BSC-RPM-2022-02.” Follow the instructions provided at the screen. Please include your name, company name (if any), and “Notice BSC-RPM-2022-02” on your attached document.

• Instructions: Please submit comments only and cite “Notice BSC-RPM-2022-02” in all correspondence related to this notice. Comments received generally will be posted without change to http://www.regulations.gov, including any personal or business confidential information, or both, provided. To confirm receipt of your comment(s), please check http://www.regulations.gov approximately two to three business days after submission to verify posting.

FOR FURTHER INFORMATION CONTACT: Chris Coneeney, Director, Real Property Policy Division, at 202-208-2956, or by email at chris.coneeney@gsa.gov.

SUPPLEMENTARY INFORMATION: On April 26, 2019, the Office of Management and Budget (OMB) published OMB memorandum M-19-16, “Centralized Mission Support Capabilities for the Federal Government” (available at https://www.whitehouse.gov/wp-content/uploads/2019/04/M-19-16.pdf). Mission support business standards, established and agreed to by the CFO Act agencies, using the Federal Integrated Business Framework website at https://ussm.gsa.gov/fibf/, enable the Federal Government to better coordinate on the decision-making needed to determine what mission support services can be adopted and commonly shared. These business standards are an essential first step towards agreement on outcomes, data, and cross-functional end-to-end processes that will drive economies of scale and leverage the government's buying power. The business standards will be used as the foundation for common mission support services shared by the CFO Act agencies.

GSA serves as the real property management business standards lead on the Business Standards Council. The goal of the real property management business standards is to drive real estate management consistency, equity, and standardization across the Federal Government.

GSA is seeking public feedback on these draft business data elements, including comments on the understandability of the standards, suggested changes, and usefulness of the draft standards to industry and agencies.

Guiding questions in the standards development include:

• Do the draft business standards appropriately document the business processes covered?

• Are the draft business standards easy to understand?

• Will your organization be able to show how your solutions or services, or both, can meet these draft business standards?

• What would you change about the draft business standards? Is there anything missing?

Comments will be used in the formulation of the final real property management business standards.

Saul Japson,
Acting Associate Administrator, Office of Government-wide Policy, General Services Administration.

[FR Doc. 2022-27954 Filed 12-22-22; 8:45 am]

BILLING CODE 6820-14-P